MILLENNIUM CHALLENGE CORPORATION

[MCC FR 05-09]

Notice of Quarterly Report

AGENCY: Millennium Challenge Corporation.

ACTION: Notice.

SUMMARY: In accordance with Section 612(b) of the Millennium Challenge Act of 2003 (Pub. L. 108-199, Division D), the Millennium Challenge Corporation is making its January 1, 2005 through March 31, 2005 Quarterly Report available to the public.

Millennium Challenge Corporation
[Quarterly Report for the Period January 1, 2005 through March 31, 2005]
| Obligations
Assistance under Section 605 | $0
Funds allocated or transferred under Section 619(b) | 0
Total | 0
Memo: The Millennium Challenge Corporation has no activity to report for the referenced quarter with respect to either assistance provided under Section 605 of the Millennium Challenge Act of 2003 (Pub. L. 108-199, Division D), or transfers of funds to other federal agencies pursuant to Section 619 of that act.

FOR FURTHER INFORMATION CONTACT: Jake Stefanik, Legislative Assistant, Office of Domestic Affairs, at info@mcc.gov or (202) 521-3600.

Dated: June 24, 2005.
Frances C. McNaught,
Vice President, Domestic Relations, Millennium Challenge Corporation.

[FR Doc. 05-12858 Filed 6-28-05; 8:45 am]

BILLING CODE 9210-01-P